FEDERAL COMMUNICATIONS COMMISSION

Sunshine Act Meeting; Deletion of Agenda Items From July 2, 2009, Open Meeting and Revised Sunshine Notice

The following items have been deleted from the list of Agenda items scheduled for consideration at the July 2, 2009, open meeting and previously listed in the Commission's Notice of June 25, 2009. These items have been adopted by the Commission.

Item No. | Bureau | Subject
1 | Office of Engineering and Technology | Title: Amendment of the Commission's Rules to Provide Spectrum for the Operation of Medical Body Area Networks (ET Docket No. 08-59).
|  | Summary: The Commission will consider a Notice of Proposed Rulemaking to allocate spectrum and establish service and technical rules for the operation of Medical Body Area Networks to monitor patients' physiological data.
2 | Media | Title: Amendment of Service and Eligibility Rules for FM Broadcast Stations (MB Docket No. 07-172; RM-11338).
|  | Summary: The Commission will consider a Report and Order concerning changes in the FM translator rules to allow AM broadcast stations to rebroadcast their signals on eligible FM translator stations.
3 | Wireless Tele-Communications | Title: Amendment of Part 101 of the Commission's Rules to Accommodate 30 Megahertz Channels in the 6525-6875 MHz Band (RM-11417), et al.
|  | Summary: The Commission will consider a Notice of Proposed Rulemaking addressing whether to provide licensees with authority to operate on channels with bandwidths up to 30 megahertz in the Upper 6 GHz band and whether to extend conditional authority to two additional channel pairs in the 23 GHz band, as well as an Order addressing a related waiver request.

Revised Sunshine Notice

The Meeting will include a presentation on the status of the Commission's process for developing a National Broadband Plan.

Federal Communications Commission.
Marlene H. Dortch,
Secretary.

[FR Doc. E9-15820 Filed 6-30-09; 4:15 pm]

BILLING CODE 6712-01-P